POSTAL SERVICE

Privacy Act of 1974; System of Records

AGENCY: Postal Service™.

ACTION: Notice of modification to existing systems of records.

SUMMARY: The United States Postal Service® is proposing to modify four General Privacy Act Systems of Records. These updates are being made to account for additional methods that the Postal Service uses to contact applicants, employees, and former employees. Additionally, changes are being made to one record system to include assessments of postal employees and to expand the locations where information from such assessments may be stored. Lastly, changes are being made to another record system pertaining to personnel research to include former Postal Service employees as a category of individuals covered by that system and to modify one of the purposes of the system.

DATES: These revisions will become effective without further notice on August 19, 2013 unless comments received on or before that date result in a contrary determination.

ADDRESSES: Comments may be mailed or delivered to the Records Office, United States Postal Service, 475 L'Enfant Plaza SW., Room 9431, Washington, DC 20260-1101. Copies of all written comments will be available at this address for public inspection and photocopying between 8 a.m. and 4 p.m., Monday through Friday.

FOR FURTHER INFORMATION CONTACT: Matthew J. Connolly, Chief Privacy Officer (A), Privacy and Records Office, 202-268-8582.

SUPPLEMENTARY INFORMATION: This notice is in accordance with the Privacy Act requirement that agencies publish their amended systems of records in the Federal Register when there is a revision, change, or addition. The Postal Service™ has reviewed these systems of records and has determined that these four General Privacy Act Systems of Records should be revised to modify system location, categories of individuals covered by the system, categories of records in the system, purpose(s), retreivability, notification procedure, and record source categories.

I. Background

The U.S. Postal Service has, as a necessary practice since the inception of its online application process, collected the personal email addresses of applicants and potential applicants as a means of communication. The proposed changes are intended to account for such collection.

Additionally, over the next few years, a substantial portion of the current Postal Service leadership will be eligible to retire. Moreover, a significant organizational transition is changing the competencies and skills that are needed by up-and-coming leadership. Therefore, it is critically important that the Postal Service be ready to assess the capabilities of existing and potential leaders by providing tailored assessments that adequately measure characteristics that are linked directly to the leadership competency models, thereby allowing the Postal Service to identify, develop, and hire top talent into leadership positions. The proposed changes are intended to facilitate such assessments and the storage of information generated from such assessments.

Lastly, the proposed changes are intended to provide Human Resources with the option of contacting former employees, via their personal email addresses, for the purpose of obtaining feedback that will enable the Postal Service to continuously improve its processes.

II. Rationale for Changes to USPS Privacy Act Systems of Records

The systems of records 100.000 General Personal Records and 100.100 Recruiting, Examining, and Placement Records are being modified to account for the collection of personal email addresses from applicants and potential applicants who then become employees.

Additionally, the system of records 100.300 Employee Development and Training Records is being updated to facilitate the assessment services of contractors as part of its continued effort to develop and hire talent into leadership positions.

Lastly, the Postal Service is also proposing additional changes to system of records 100.600 Personnel Research to facilitate assessments by Human Resources of the impact of selection decisions on applicants within specific demographic categories, including, among other categories, veteran status. Among other things, these changes will enable the Postal Service to obtain feedback from applicants, potential applicants, employees, and former employees via their personal email addresses so that the Postal Service may continuously improve its processes. A minor change is also being made to clarify that Employee Identification Numbers, which are used to identify postal employees in other records systems, will be a category of records in this system.

III. Description of Changes to Systems of Records

The Postal Service is modifying four systems of records listed below. Pursuant to 5 U.S.C. 552a (e)(11), interested persons are invited to submit written data, views, or arguments on this proposal. A report of the proposed modifications has been sent to Congress and to the Office of Management and Budget for their evaluation. The Postal Service does not expect this amended notice to have any adverse effect on individual privacy rights. The affected systems are as follows:

USPS 100.000

System Name: General Personnel Records

USPS 100.100

System Name: Recruiting, Examining, and Placement Records

USPS 100.300

System Name: Employee Development and Training Records

USPS 100.600

System Name: Personnel Research Records

Accordingly, for the reasons stated, the Postal Service proposes changes in the existing system of records as follows:

USPS 100.000

SYSTEM NAME:

General Personnel Records.

CATEGORIES OF RECORDS IN THE SYSTEM:

* * * * *

[CHANGE TO READ]

1. Employee, former employee, and family member information: Name(s), Social Security Number(s), Employee Identification Number, date(s) of birth, place(s) of birth, marital status, postal assignment information, work contact information, home address(es) and phone number(s), personal email address, finance number(s), duty location, and pay location.

* * * * *

USPS 100.100

SYSTEM NAME:

Recruiting, Examining, and Placement Records.

CATEGORIES OF RECORDS IN THE SYSTEM:

* * * * *

[CHANGE TO READ]

1. Applicant, potential applicants with candidate profiles, and employee information: Name(s), Social Security Number(s), Candidate Identification Number, Employee Identification Number, date(s) of birth, postal assignment or vacancy/job posting history information, work contact information, home address(es) and phone number(s), personal email address, finance number(s), duty location, and pay location.

* * * * *

USPS 100.300

SYSTEM NAME:

Employee Development and Training Records.

SYSTEM LOCATION:

[CHANGE TO READ]

Management training centers, Integrated Business Solutions Services Centers, other USPS facilities where career development and training records are stored, and contractor sites.

CATEGORIES OF RECORDS IN THE SYSTEM:

* * * * *

[CHANGE TO READ]

2. Employee development and training information: Records related to career development, work history, assessments, skills bank participation, USPS- and non-USPS-sponsored training, examinations, evaluations of training, and USPS lodging when a discrepancy report is filed against the student about unauthorized activities while occupying the room.

* * * * *

USPS 100.600

SYSTEM NAME:

Personnel Research Records.

CATEGORIES OF INDIVIDUALS COVERED BY THE SYSTEM:

[CHANGE TO READ]

Potential applicants for USPS employment, applicants for USPS employment, USPS employee applicants for reassignment and/or promotion, employees whose work records or solicited responses are used in research projects, and former USPS employees.

CATEGORIES OF RECORDS IN THE SYSTEM:

[CHANGE TO READ]

1. Applicant, potential applicant with candidate profile, and employee information: Name, Social Security Number, Candidate Identification Number, Employee Identification Number (EIN), or respondent identification code, place of birth, postal assignment or vacancy/posting information, work contact information, home address and phone number(s), personal email address, finance number(s), duty location, and pay location.

2. Personnel research information: Records related to race, ethnicity, sex, tenure, age, veteran status, and disability status (only if volunteered by the individual); research project identifiers; and other information pertinent to personnel research.

* * * * *

PURPOSE(S):

* * * * *

[CHANGE TO READ]

2. To assess the impact of selection decisions on applicants in race, ethnicity, sex, tenure, age, veteran status, and disability categories.

* * * * *

RETRIEVABILITY:

By individual name, Social Security Number, Candidate Identification Number, Employee Identification Number, personal email address, respondent identification code, research project identifiers, postal assignment or vacancy/posting information, duty or pay location, or location where data were collected.

* * * * *

NOTIFICATION PROCEDURE:

Individuals wanting to know if information about them is maintained in this system of records must address inquiries to the Vice President, Employee Resource Management, 475 L'Enfant Plaza SW., Washington, DC 20260. In cases of studies involving information not collected through an examination, individuals must address inquiries to the system manager. Inquiries must contain full name; Candidate Identification Number, Employee Identification Number, or respondent identification code, and subject or purpose of research/survey; and date and location of their participation.

* * * * *

RECORD SOURCE CATEGORIES:

USPS employees, former employees, applicants, and potential applicants with candidate profiles who provide information to personnel research programs and other systems of records.

* * * * *

Stanley F. Mires,
Attorney, Legal Policy & Legislative Advice.

[FR Doc. 2013-17325 Filed 7-18-13; 8:45 am]

BILLING CODE 7710-12-P